DEPARTMENT OF HEALTH AND HUMAN SERVICES

National Institutes of Health

National Institute of Mental Health; Amended Notice of Meeting

Notice is hereby given of a change in the meeting of the National Institute of Mental Health Special Emphasis Panel, November 25, 2019, 11:00 a.m. to November 25, 2019, 4:00 p.m., National Institutes of Health Neuroscience Center Building (NSC), 6001 Executive Boulevard, Rockville, MD 20852, which was published in the Federal Register on November 14, 2019, 84 FR 61920.

This notice is to amend the date of the NIMH HIV/AIDS Review meeting from November 25, 2019, from 11:00 a.m.-4:00 p.m. to December 17, 2019, from 1:00 p.m.-5:00 p.m. The meeting is closed to the public.

Dated: November 18, 2019.
Melanie J. Pantoja,
Program Analyst, Office of Federal Advisory Committee Policy.

[FR Doc. 2019-25312 Filed 11-21-19; 8:45 am]

BILLING CODE 4140-01-P